DEPARTMENT OF THE TREASURY

Financial Crimes Enforcement Network

Agency Information Collection Activities; Proposed Renewal; Comment Request; Renewal Without Change of Reports of Transactions in Currency Regulations and FinCEN Form 112—Currency Transaction Report

AGENCY: Financial Crimes Enforcement Network (FinCEN), Treasury.

ACTION: Notice and request for comments.

SUMMARY: As part of its continuing effort to reduce paperwork and respondent burden, FinCEN invites comment on a renewal, without change, of existing information collection requirements relating to reports of transactions in currency. Under Bank Secrecy Act regulations, financial institutions are required to report transactions in currency of more than $10,000 using FinCEN Form 112 (the currency transaction report, or CTR). This request for comments is made pursuant to the Paperwork Reduction Act of 1995 (PRA).

DATES: Written comments are welcome and must be received on or before April 5, 2024.

ADDRESSES: Comments may be submitted by any of the following methods:

• Federal E-rulemaking Portal: http://www.regulations.gov. Follow the instructions for submitting comments. Refer to Docket Number FINCEN-2024-0003 and the specific Office of Management and Budget (OMB) control numbers 1506-0004, 1506-0005, and 1506-0064.

• Mail: Policy Division, Financial Crimes Enforcement Network, P.O. Box 39, Vienna, VA 22183. Refer to Docket Number FINCEN-2024-0003 and OMB control numbers 1506-0004, 1506-0005, and 1506-0064.

Please submit comments by one method only. Comments will be reviewed consistent with the PRA ¹ and applicable OMB regulations and guidance. All comments submitted in response to this notice will become a matter of public record. Therefore, you should submit only information that you wish to make publicly available.

¹ Public Law 104-13, 44 U.S.C. 3506(c)(2)(A).

FOR FURTHER INFORMATION CONTACT: FinCEN's Regulatory Support Section at 1-800-767-2825 or electronically at frc@fincen.gov.

SUPPLEMENTARY INFORMATION:

I. Statutory and Regulatory Provisions

The legislative framework generally referred to as the Bank Secrecy Act (BSA) consists of the Currency and Foreign Transactions Reporting Act of 1970, as amended by the Uniting and Strengthening America by Providing Appropriate Tools Required to Intercept and Obstruct Terrorism Act of 2001 (USA PATRIOT Act), Public Law 107-56 (October 26, 2001), and other legislation, including the Anti-Money Laundering Act of 2020 (AML Act).² The BSA is codified at 12 U.S.C. 1829b, 12 U.S.C. 1951-1960, and 31 U.S.C. 5311-5314 and 5316-5336, and notes thereto, with implementing regulations at 31 CFR chapter X.

² The AML Act was enacted as Division F, sections 6001-6511, of the William M. (Mac) Thornberry National Defense Authorization Act for Fiscal Year 2021, Public Law 116-283, 134 Stat. 3388 (2021).

The BSA authorizes the Secretary of the Treasury (the “Secretary”), inter alia, to require financial institutions to keep records and file reports that are determined to have a high degree of usefulness in criminal, tax, or regulatory matters, risk assessments or proceedings, or in the conduct of intelligence or counter-intelligence activities to protect against international terrorism, and to implement AML programs and compliance procedures.³ Regulations implementing the BSA appear at 31 CFR chapter X. The authority of the Secretary to administer the BSA has been delegated to the Director of FinCEN.⁴

³ Section 358 of the USA PATRIOT Act expanded the purpose of the BSA by including a reference to reports and records “that have a high degree of usefulness in intelligence or counterintelligence activities to protect against international terrorism.” Section 6101 of the AML Act further expanded the purpose of the BSA to cover such matters as preventing money laundering, tracking illicit funds, assessing risk, and establishing appropriate frameworks for information sharing.

⁴ Treasury Order 180-01 (Jan. 14, 2020).

Under 31 U.S.C. 5313, the Secretary is authorized to require financial institutions to report currency transactions exceeding $10,000. Regulations implementing 31 U.S.C. 5313 are found at 31 CFR 1010.310 through 1010.314, 31 CFR 1021.311, and 31 CFR 1021.313.

II. Paperwork Reduction Act of 1995

Title: Reports of Transactions in Currency by Financial Institutions (31 CFR 1010.310 through 1010.314, 31 CFR 1021.311, and 31 CFR 1021.313).

OMB Control Number: 1506-0004, 1506-0005, and 1506-0064.⁵

⁵ The reports of transactions in currency regulatory requirements are currently covered under the following OMB control numbers: 1506-0004 (General provisions—31 CFR 1010.310—Reports of transactions in currency, 31 CFR 1010.311—Filing obligations for reports of transactions in currency, 31 CFR 1010.312—Identification required, 31 CFR 1010.313—Aggregation, and 31 CFR 1010.314—Structured transactions), and 1506-0005 (Rules for casinos and card clubs—31 CFR 1021.311—Reports of transaction in currency, and 31 CFR 1021.313—Aggregation). OMB control number 1506-0064 applies to FinCEN Form 112—CTR.

Form Number: FinCEN Form 112—Currency Transaction Report (CTR).

Abstract: FinCEN is issuing this notice to renew the OMB control numbers for the CTR regulations and form.

Affected Public: Businesses or other for-profit institutions, and non-profit institutions.

Type of Review: Renewal without change of a currently approved information collection.

Frequency: As required.

Estimated Number of Respondents: 15,468 financial institutions.⁶

⁶ This estimate is based on the observed number of unique filers associated with at least one CTR fling received in calendar year 2022, as reported by the BSA E-Filing System as of 12/31/2022.

Estimated Total Annual Responses: 20,564,724 CTRs.⁷

⁷ This estimate is based on the observed number of CTR filings received in calendar year 2022, as reported by the BSA E-Filing System as of 12/31/2022.

Estimated Reporting and Recordkeeping Burden per Response: The average estimated PRA burden, measured in minutes per CTR, is approximately eight minutes.⁸ On May 14, 2020, FinCEN issued a 60-day notice to renew the CTR OMB controls numbers (“2020 Notice”). In the 2020 Notice, FinCEN proposed to expand the scope of factors to consider as part of the PRA burden of complying with CTR requirements. To better estimate the burden associated with complying with CTR requirements, FinCEN conducted an in-depth analysis of the population of 2019 CTR filing statistics, as described in the 2020 Notice. FinCEN analyzed the 2019 CTR filings grouped by a number of different factors, including the following: (i) how many CTRs the filer filed in a year; (ii) the filer's financial institution type; (iii) the type of CTR submission (batch filing versus discrete filing); and (iv) the type of person(s) identified in the CTR (e.g., a person that conducts a transaction on its own behalf or a person that conducts a transaction on behalf of another). The analysis and calculations detailed in the 2020 Notice ultimately resulted in an estimate of approximately eight minutes of filer burden per CTR filed.

⁸ See FinCEN, Agency Information Collection Activities; Proposed Renewal; Comment Request; Renewal Without Change of the Bank Secrecy Act Reports of Transactions in Currency Regulations at 31 CFR 1010.310 Through 1010.314, 31 CFR 1021.311, and 31 CFR 1021.313, and FinCEN Report 112-Currency Transaction Report, 85 FR 29022 (May 14, 2020). Refer to 85 FR 29029 for the specific reference to the estimated recordkeeping and reporting burden estimate of eight minutes per CTR.

FinCEN received 18 public comments in response to the 2020 Notice. Commenters were generally supportive of FinCEN's efforts to more accurately estimate the PRA burden associated with the CTR filing requirements. Some commenter had specific recommendations regarding factors for FinCEN to consider in future in-depth analysis of the CTR filing population. However, none of those commenters provided specific sources of data to contradict the burden estimate of eight minutes of burden per CTR filed. In the absence of public comments to suggest otherwise, FinCEN considers it reasonable to continue to use the estimate of eight minutes per CTR filed for the population of 2022 CTR filing statistics as outlined in this notice. Furthermore, in connection with a variety of initiatives FinCEN is undertaking to implement the AML Act, FinCEN intends to conduct, in the future, additional assessments of the PRA burden associated with BSA requirements, including CTR requirements.

Estimated Total Annual Reporting and Recordkeeping Burden: 2,741,963 hours.⁹

⁹ This estimate is derived from the calculation 20,564,724 CTRs multiplied by eight minutes per CTR and converted to hours.

Estimated Total Annual Reporting and Recordkeeping Cost: $76,007,214. This estimate applies the weighted average hourly cost of $27.72 (derived in Tables 1 and 2 below) the estimated total annual reporting and recordkeeping burden above (2,741,963 hours).¹⁰

¹⁰ Tables 1 and 2 use the same methodology to estimate the weighted average hourly cost as was used in the 2020 Notice. The tables, however, include the most recent statistics available as described in further detail in footnotes 11 and 12. Refer to 85 FR 29022, at 29026 (Tables 5 and 6) setting out the methodology used to calculate the PRA burden in the 2020 Notice.

Table 1—Total Hourly (Fully-Loaded Hourly Wage) per Role and Bureau of Labor and Statistics (BLS) Job Position
Role | BLS—code ¹¹ | BLS—name | Median hourly wage | Benefit factor | Fully-loaded hourly wage
Remote Supervision | 11-3031 | Financial Manager | $67.21 | ¹² 1.42 | $95.44
Direct Supervision | 13-1041 | Compliance Officer | 34.47 | 1.42 | 48.95
Operations | 43-3071 | Teller | 17.49 | 1.42 | 24.84

Table 2—Weighted Average Hourly Cost
Component | Remote supervision: % Time | Remote supervision: Fully-loaded hourly wage | Remote supervision: Hourly cost | Direct supervision: % Time | Direct supervision: Fully-loaded hourly wage | Direct supervision: Hourly cost | Operations: % Time | Operations: Fully-loaded hourly wage | Operations: Hourly cost | Weighted average hourly cost
Record-keeping and Reporting | 1 | $95.44 | $0.95 | 9 | $48.95 | $4.41 | 90 | $24.84 | $22.36 | $27.72

An agency may not conduct or sponsor, and a person is not required to respond to, a collection of information unless the collection of information displays a valid OMB control number. Records required to be retained under the BSA must be retained for five years.

¹¹ The average hourly wage rate is calculated from the May 2022 U.S. Bureau of Labor Statistics (BLS) median hourly wage for the BLS codes listed in Table 1. See BLS, Occupational Employment and Wages Statistics (May 2022), available at https://www.bls.gov/oes/tables.htm.

¹² The ratio between benefits and wages for private industry workers is $12.19 (hourly benefits)/$29.34 (hourly wages) = 0.42, as of September 2023. The benefit factor is 1 plus the benefit/wages ratio, or 1.42. See BLS, Employee Costs for Employee Compensation (September 2023), available at ECEC Home: U.S. Bureau of Labor Statistics (bls.gov).

Request for Comments

Comments submitted in response to this notice will be summarized and/or included in the request for OMB approval. All comments will become a matter of public record. Comments are invited on: (i) whether the collection of information is necessary for the proper performance of the functions of the agency, including whether the information shall have practical utility; (ii) the accuracy of the agency's estimate of the burden of the collection of information; (iii) ways to enhance the quality, utility, and clarity of the information to be collected; (iv) ways to minimize the burden of the collection of information on respondents, including through the use of automated collection techniques or other forms of information technology; and (v) estimates of capital or start-up costs and costs of operation, maintenance, and purchase of services to provide information.

Jimmy L. Kirby Jr.,
Deputy Director, Financial Crimes Enforcement Network.

[FR Doc. 2024-02186 Filed 2-2-24; 8:45 am]

BILLING CODE 4810-02-P